DEPARTMENT OF THE INTERIOR

Bureau of Land Management

[LLCAC09000, L1430; CACA 008215]

Public Land Order No. 7840; Revocation of Withdrawal Created by Executive Order No. 5732, California

AGENCY: The Bureau of Land Management.

ACTION: Public Land Order.

SUMMARY: This order revokes in its entirety the withdrawal created by Executive Order No. 5732 dated October 14, 1931, which withdrew 40 acres of public land from settlement, location, sale, or entry for use as a lookout station in connection with cooperative forest protection work. The withdrawal for the lookout station is no longer needed. This action will restore the land to operation of the public land laws.

DATES: Effective date: September 11, 2015.

FOR FURTHER INFORMATION CONTACT: Christine Sloand, Realty Specialist, at 831-630-5022 or via email at csloand@blm.gov. Persons who use a telecommunications device for the deaf (TDD) may call the Federal Information Relay Service (FIRS) at 1-800-877-8339 to reach the BLM contact person. The FIRS is available 24 hours a day, 7 days a week, to leave a message or question with the above individual. You will receive a reply during normal business hours.

SUPPLEMENTARY INFORMATION: The Executive Order withdrew 40 acres of land on Smith Mountain for a lookout station used by the State of California Division of Forestry. Because the land is no longer used for lookout station purposes, the Bureau of Land Management has determined that the withdrawal is no longer needed.

Order

By virtue of the authority vested in the Secretary of the Interior by Section 204 of the Federal Land Policy and Management Act of 1976, 43 U.S.C. 1714, it is ordered as follows:

The withdrawal created by Executive Order No. 5732 of October 14, 1931, which temporarily withdrew the following described land from settlement, location, sale, or entry for use as a lookout station, is hereby revoked in its entirety:

Mount Diablo Meridian

T. 21 S., R. 13 E.,

Sec. 29, NE¼NW¼.

The area described contains 40.00 acres, more or less, in Monterey and Fresno Counties.

At 10 a.m., on October 13, 2015, the above-described land will be open to operation of the public land laws, generally, including the mining laws, and to settlement, location, sale, or entry, subject to valid existing rights, the provisions of existing withdrawals, and the requirements of applicable law. All valid applications received at or prior to 10 a.m. on October 13, 2015, shall be considered as simultaneously filed at that time. Those received thereafter shall be considered in the order of filing.

Janice M. Schneider,
Assistant Secretary—Land and Minerals Management.

[FR Doc. 2015-22908 Filed 9-10-15; 8:45 am]

BILLING CODE 4310-40-P